ENVIRONMENTAL PROTECTION AGENCY

[EPA-HQ-OW-2002-0059; FRL-9982-14-OW]

Proposed Information Collection Request; Comment Request; Safe Drinking Water Act State Revolving Fund Program

AGENCY: Environmental Protection Agency (EPA).

ACTION: Notice.

SUMMARY: The Environmental Protection Agency (EPA) is planning to submit an information collection request (ICR), “Safe Drinking Water Act State Revolving Fund Program” (EPA ICR No. 1803.08, OMB Control No. 2040-0185) to the Office of Management and Budget (OMB) for review and approval in accordance with the Paperwork Reduction Act (PRA). Before doing so, the EPA is soliciting public comments on specific aspects of the proposed information collection as described in the SUPPLEMENTARY INFORMATION section. This is a proposed extension of the ICR, which is currently approved through April 30, 2019. An Agency may not conduct or sponsor and a person is not required to respond to a collection of information unless it displays a currently valid OMB control number.

DATES: Comments must be submitted on or before October 12, 2018.

ADDRESSES: Submit your comments, referencing Docket ID No. EPA-HQ-OW-2002-0059, online using www.regulations.gov (our preferred method), by email to OW-Docket@epa.gov, or by mail to: EPA Docket Center, Environmental Protection Agency, Mail Code 28221T, 1200 Pennsylvania Ave. NW, Washington, DC 20460.

EPA's policy is that all comments received will be included in the public docket without change including any personal information provided, unless the comment includes profanity, threats, information claimed to be Confidential Business Information (CBI) or other information whose disclosure is restricted by statute.

FOR FURTHER INFORMATION CONTACT: Howard Rubin, Drinking Water Protection Division, Office of Ground Water and Drinking Water, 4606M, U.S. Environmental Protection Agency, 1200 Pennsylvania Ave. NW, Washington, DC 20460; telephone number: 202-564-2051; email address: Rubin.HowardE@epa.gov.

SUPPLEMENTARY INFORMATION: Supporting documents which explain in detail the information that the EPA will be collecting are available in the public docket for this ICR. The docket can be viewed online at www.regulations.gov or in person at the EPA Docket Center, WJC West, Room 3334, 1301 Constitution Ave. NW, Washington, DC. The telephone number for the Docket Center is 202-566-1744. For additional information about EPA's public docket, visit http://www.epa.gov/dockets.

Pursuant to section 3506(c)(2)(A) of the PRA, the EPA is soliciting comments and information to enable it to: (i) Evaluate whether the proposed collection of information is necessary for the proper performance of the functions of the Agency, including whether the information will have practical utility; (ii) evaluate the accuracy of the Agency's estimate of the burden of the proposed collection of information, including the validity of the methodology and assumptions used; (iii) enhance the quality, utility, and clarity of the information to be collected; and (iv) minimize the burden of the collection of information on those who are to respond, including through the use of appropriate automated electronic, mechanical, or other technological collection techniques or other forms of information technology, e.g., permitting electronic submission of responses. The EPA will consider the comments received and amend the ICR as appropriate. The final ICR package will then be submitted to OMB for review and approval. At that time, the EPA will issue another Federal Register notice to announce the submission of the ICR to OMB and the opportunity to submit additional comments to OMB.

Abstract: The Safe Drinking Water Act (SDWA) Amendments of 1996 (Pub. L. 104-182) authorized the creation of the Drinking Water State Revolving Fund (DWSRF; the Fund) program in each state and Puerto Rico, to assist public water systems in financing the costs of infrastructure needed to achieve or maintain compliance with the SDWA requirements and to protect public health. The SDWA, section 1452, authorizes the Administrator of the EPA to award capitalization grants to the states and Puerto Rico which, in turn, provide low-cost loans and other types of assistance to eligible drinking water systems. States can also reserve a portion of their grants to conduct various set-aside activities. The information collection activities will occur primarily at the program level through the (1) Capitalization Grant Application and Agreement/State Intended Use Plan; (2) Biennial Report; (3) Annual Audit; (4) Assistance Application Review; and (5) DWSRF National Information Management System and the Projects and Benefits Reporting System.

(1) Capitalization Grant Application and Agreement/State Intended Use Plan: The state must prepare a Capitalization Grant Application that includes an Intended Use Plan (IUP), outlining in detail how it will use all the funds covered by the capitalization grant. The state may, as an alternative, develop the IUP in a two-part process, with one part identifying the distribution and uses of the funds among the various set-asides in the DWSRF program and the other part dealing with project assistance from the Fund.

(2) Biennial Report: The state must agree to complete and submit a Biennial Report on the uses of the capitalization grant. The scope of the report must cover assistance provided by the Fund and all other set-aside activities included under the Capital Grant Agreement. States that jointly administer DWSRF and Clean Water State Revolving Fund (CWSRF) programs, in accordance with the SDWA, section 1452(g)(1), may submit reports (according to the schedule specified for each program) that cover both programs.

(3) Annual Audit: A state must comply with the provisions of the Single Audit Act Amendments of 1996. Best management practices suggest and the EPA recommends that a state conduct an annual independent audit of its DWSRF program. The scope of the report must cover the DWSRF and all other set-aside activities included in the Capitalization Grant Agreement. States that jointly administer DWSRF and CWSRF programs, in accordance with the SDWA, section 1452(g)(1), may submit audits that cover both programs but which report financial information for each program separately.

(4) Assistance Application Review: Local applicants seeking financial assistance must prepare and submit DWSRF loan applications. States then review completed loan applications and verify that proposed projects will comply with applicable federal and state requirements.

(5) DWSRF National Information Management System (DWNIMS) and the Projects and Benefits Reporting System (PBR): To ensure that funds are being used in an expeditious and timely manner for eligible projects and expenses, states must annually enter state-level financial data into the DWNIMS and quarterly enter project-level data into the PBR.

Form numbers: None.

Respondents/affected entities: Entities affected by this action are states and local governments.

Respondent's obligation to respond: Required to obtain or retain a benefit per the Safe Drinking Water Act, section 1452(g)(1).

Estimated number of respondents: 379 state and local respondents (total).

Frequency of response: Varies by requirement (i.e., quarterly, semi-annually, and annually).

Total estimated burden: 88,792.5 hours (per year) for state and local respondents. Burden is defined at 5 CFR 1320.03(b).

Total estimated cost: $3,355,516 (per year) for state and local respondents.

Changes in estimates: The EPA expects a decrease in the total estimated respondent burden cost compared with the ICR currently approved by OMB. The change in cost is due to moving from contractor-provided hourly cost rates to Bureau of Labor Statistics (BLS) provided hourly cost rates. Using BLS rates will ensure that the ICR is more transparent and replicable. The present BLS rates are lower than historical contractor-provided rates.

Dated: August 2, 2018.
Peter Grevatt,
Director, Office of Ground Water & Drinking Water.

[FR Doc. 2018-17372 Filed 8-10-18; 8:45 am]

BILLING CODE 6560-50-P